DEPARTMENT OF DEFENSE

Office of the Secretary

Transformation Advisory Group Meeting of the U.S. Joint Forces Command

AGENCY: Department of Defense.

ACTION: Notice of Closed Meeting.

SUMMARY: The Transformation Advisory Group (TAG) will meet in closed session on 17-18 April 2006. The establishment date was already published in the Federal Register on 28 May 2003, in accordance with 41 CFR part 102-3.150. The mission of the TAG is to provide timely advice on scientific, technical, and policy-related issues to the Commander, U.S. Joint Forces Command as he developes and executes the DOD transformation strategy. Full development of the topics will require discussion of information classified in accordance with Executive Order 12958, dated 17 April 1995, as amended March 2003. Access to the information must be strictly limited to personnel having the requisite clearances and specific need-to-know. Unauthorized disclosure of the information to be discussed at the TAG meetings could cause serious damage to our national defense. The meeting will be closed for security reasons, pursuant to 5 U.S.C. 552, Exemption (b)1, Protection of National Security, and Exemption (b)3 regarding information protected under the Homeland Security Act of 2002. In accordance with Section 10d of the Federal Advisory Committee Act and 41 CFR 102-3.155 this meeting will be closed.

DATES: 17-18 April 2006.

Location: National Defense University, Fort McNair, Washington, DC.

FOR FURTHER INFORMATION CONTACT: Mr. John T. Boyd, Executive Director, (757) 836-2832.

For Supplementary Information: Mr. Jerry Mahar, Joint Staff, (703) 614-6465.

March 17, 2006.
L.M. Bynum,
Alternate OSD Federal Register Liaison Officer, DoD.

[FR Doc. 06-2797 Filed 3-22-06; 8:45 am]

BILLING CODE 5001-06-M